DEPARTMENT OF LABOR

Employment and Training Administration

[TA-W-50,643]

Aran Mold & Die Company, Incorporated, Elmwood Park, NJ; Notice of Negative Determination on Reconsideration

On April 15, 2003, the Department issued a Notice of Affirmative Determination Regarding Application for Reconsideration for the workers and former workers of the subject firm. The notice will soon be published in the Federal Register.

The Department initially denied workers of Aran Mold & Die Company, Inc., Elmwood Park, New Jersey because they did not produce an article within the meaning of section 222 of the Act. The Department of Labor has consistently determined that the performance of services does not constitute production of an article, as required by section 222 of the Trade Act of 1974, and this determination has been upheld in the U.S. Court of Appeals.

The petitioner asserts that subject firm workers produced a product (plastic injection molds) and that sales and production declines were attributable to customers who imported competitive products. To support the latter claim, the petitioner provided the contact information for two major declining customers.

The Department examined the petitioner claims and verified that the petitioning worker group did produce a product. Further, two customers were surveyed regarding their purchases of competitive plastic injection molds in 2001 and 2002. Neither of these customers reported imports of plastic injection molds during the relevant period.

Upon further analysis, it was revealed that the subject firm ceased production in October of 2001, well beyond the relevant period.

Conclusion

After reconsideration, I affirm the original notice of negative determination of eligibility to apply for worker adjustment assistance for workers and former workers of Aran Mold & Die Company, Inc., Elmwood Park, New Jersey.

Signed in Washington, DC, this 21st day of April, 2003.
Elliott S. Kushner,
Certifying Officer, Division of Trade Adjustment Assistance.

[FR Doc. 03-11275 Filed 5-6-03; 8:45 am]

BILLING CODE 4510-30-P